DEPARTMENT OF DEFENSE

Department of the Navy

Notice of Availability of Government-Owned Inventions; Available for Licensing

AGENCY: Department of the Navy, DOD.

ACTION: Notice.

SUMMARY: The inventions listed below are assigned to the U.S. Government as represented by the Secretary of the Navy and are available for licensing by the Department of the Navy.

U.S. Patent No. 5,978,141 entitled “Optical Mirror Particularly Suited for a Quantum Well Mirror”, Navy Case No. 78155, Inventor Karwacki, Issue Date November 2, 1999.//U.S. Patent No. 5,822,047 entitled “Modulator LIDAR system”, Navy Case No. 77098, Inventors Contarino, et al., Issue Date October 8, 1998.//U.S. Patent Number 6,486,799 entitled “Computer-based human-centered display system”, Inventors Still, et al., Issue Date November 26, 2002.//Navy Case Number 84053 entitled “Deployable Tandem/Multiple Leading Edge Flap”, Inventors Ghee, et al.//Navy Case Number 85054 entitled “Deployable Serrated Flap—Single Flap, Tandem and Multiple Flap, and Tandem Flap In-Opposition”, Inventor Ghee, et al.

ADDRESSES: Request for data and inventor interviews should be directed to Mr. Paul Fritz, Naval Air Warfare Center Aircraft Division, Business Development Office, Office of Research and Technology Applications, Bldg. 304; Rm. 107, 22541 Millstone Rd., Patuxent River, MD 20670, (301) 342-5586 or E-mail Fritzpm@navair.navy.mil.

FOR FURTHER INFORMATION CONTACT: Mr. Paul Fritz, Naval Air Warfare Center Aircraft Division, Business Development Office, Office of Research and Technology Applications, Bldg. 304; Rm. 107, 22541 Millstone Rd., Patuxent River, MD 20670, (301) 342-5586 or E-mail Fritzpm@navair.navy.mil.

SUPPLEMENTARY INFORMATION: The U.S. Navy intends to move expeditiously to license these patents. All licensing application packages and commercialization plans must be returned to Naval Air Warfare Center Aircraft Division, Business Development Office, Office of Research and Technology Applications, Bldg. 304; Rm. 107, 22541 Millstone Rd., Patuxent River, MD 20670.

The Navy, in its decision concerning the granting of licenses, will give special consideration to small business firms, and consortia involving small business firms.The Navy intends to insure that its licensed inventions are broadly commercialized throughout the United States.

Any license of Navy technology will require that material which embody the inventions licensed that are to be sold in the United States of America, will be manufactured substantially in the United States.

(Authority: 35 U.S.C. 207, 37 CFR part 404)

Dated: August 27, 2003.
S.K. Melancon,
Paralegal Specialist, Office of the Judge Advocate General, Alternate Federal Register Liaison Officer.

[FR Doc. 03-22693 Filed 9-5-03; 8:45 am]

BILLING CODE 3810-FF-P